DEPARTMENT OF DEFENSE

Department of the Army

Availability of U.S. Patents for Non-Exclusive, Exclusive, or Partially-Exclusive Licensing

AGENCY: U.S. Army Research Laboratory, Adelphi, Maryland.

ACTION: Notice.

SUMMARY: In accordance with 37 CFR 404.6, announcement is made of the availability of the following U.S. patent for non-exclusive, partially exclusive or exclusive licensing. The listed patent has been assigned to the United States of America as represented by the Secretary of the Army, Washington, D.C.

This patent covers a wide variety of technical arts including: A harness for long-term stretcher carry, A method of bonding a silicon carbide chip to a semiconductor and a method for fabricating high-density monolithic metal billets.

Under the authority of Section 11(a)(2) of the Federal Technology Transfer Act of 1986 (Public Law 99-502) and Section 207 of Title 35, United States Code, the Department of the Army as represented by the U.S. Army Research Laboratory wish to license the U.S. patent listed below in a non-exclusive, exclusive or partially exclusive manner to any party interested in manufacturing, using, and/or selling devices or processes covered by this patent.

Title: Harness For Long-Term Stretcher Carry.

Inventors: Joseph J. Knapik, Valerie J.B. Rice, Dennis M. Hash and William H. Harper.

Patent Number: 5,967,145.

Issued Date: October 19, 1999.

Title: Bonding Of Silicon Carbide Chip With A Semiconductor.

Inventors: Timothy Mermagen, Judith McCullen, Robert Reams and Bohdan Dobriansky.

Patent Number: 5,990,551.

Issued Date: November 23, 1999.

Title: Hot Explosive Consolidation Of Refractory Metal And Alloys.

Inventors: Laszlo J. Kecskes.

Patent Number: 5,996,385.

Issued Date: December 7, 1999.

FOR FURTHER INFORMATION CONTACT: Michael Rausa, Technology Transfer Office, AMSRL-CS-TT, U.S. Army Research Laboratory, Aberdeen Proving Ground, MD 21005-5055 tel: (410) 278-5028; fax: (410) 278-5820.

SUPPLEMENTARY INFORMATION: None.

Gregory D. Showalter,
Army Federal Register Liaison Officer

[FR Doc. 00-1826 Filed 1-25-00; 8:45 am]

BILLING CODE 3710-08-M